PRIVACY AND CIVIL LIBERTIES OVERSIGHT BOARD

[Notice-PCLOB-2015-02; Docket No. 2015-0002, Sequence No. 2]

Sunshine Act Meeting

TIME AND DATE: The meeting will be held Wednesday, April 8, 2015, from 10:00 a.m. through 12:00 p.m. Eastern Standard Time (EST).

PLACE: 2100 K Street NW., Washington, DC 20427. Any change in location will be announced on http://www.pclob.gov.

STATUS: This meeting will be open to the public.

MATTERS TO BE CONSIDERED: The Privacy and Civil Liberties Oversight Board will conduct a public meeting to discuss and vote on the work plan for its review of Executive Order 12333—United States intelligence activities. The discussion will allow the Board to refine its plan of action on this issue.

Procedures for public observation: The meeting is open to the public. Pre-registration is not required. Individuals who plan to attend and require special assistance should contact Executive Director Sharon Bradford Franklin at 202-331-2986, at least 72 hours prior to the meeting date.

CONTACT PERSON FOR MORE INFORMATION: Sharon Bradford Franklin, Executive Director, 202-331-1986.

Dated: March 24, 2015.
Lynn Parker Dupree,
Acting General Counsel, Privacy and Civil Liberties Oversight Board.

[FR Doc. 2015-07173 Filed 3-25-15; 4:15 pm]

BILLING CODE 6820-B3-P